DEPARTMENT OF HOUSING AND URBAN DEVELOPMENT

[Docket No. FR-4950-N-1B]

Notice of HUD's Fiscal Year (FY) 2005 Notice of Funding Availability Policy Requirements and General Section to SuperNOFA for HUD's Discretionary Grant Programs; Submission Deadline Date Grace Period Announcement

AGENCY: Office of the Secretary, HUD.

ACTION: Super Notice of Funding Availability (SuperNOFA) for HUD Discretionary Grant Programs; submission deadline date grace period announcement.

SUMMARY: On March 21, 2005, HUD published its Fiscal Year (FY) 2005, Notice of Funding Availability (NOFA) Policy Requirements and General Section to the SuperNOFA for HUD's Discretionary Grant Programs. This document announces a grace period for applicants submitting electronic applications through Grants.gov for the Historically Black Colleges and Universities (HBCU) Program, the Early Doctoral Student Research Grant Program, the Doctoral Dissertation Research Grant Program, the Community Development Work Study Program, the Fair Housing Initiative Programs, the Healthy Homes Technical Studies Program, the Lead Technical Studies Program, the Operation Lead Elimination Action Program, the Housing Choice Voucher Family Self-Sufficiency (FSS) Program Coordinators Program, the Homeownership Supportive Services Program, the Housing Opportunities for Persons with AIDS (HOPWA) Program, and the Housing for People who are Homeless and Addicted to Alcohol Program.

DATES: The deadline date grace periods for submission of applications for the programs affected by this notice are listed in the chart in the SUPPLEMENTARY INFORMATION section of the notice.

FOR FURTHER INFORMATION CONTACT: Barbara Dorf, Director, Office of Departmental Grants Management and Oversight, Department of Housing and Urban Development, 451 Seventh Street, SW., Room 2156, Washington, DC 20410-7000; telephone 202-708-0667 (this is not a toll-free number). Persons with speech or hearing impairments may access this number via TTY by calling the toll-free Federal Information Relay Service at 800-877-8339.

SUPPLEMENTARY INFORMATION: On March 21, 2005 (70 FR 13575), HUD published its Notice of HUD's Fiscal Year (FY) 2005, Notice of Funding Availability Policy Requirements and General Section to the SuperNOFA for HUD's Discretionary Grant Programs (SuperNOFA). The application submission dates for all Program NOFAs were listed in the SuperNOFA. On May 11, 2005 (70 FR 24835), HUD published a Notice to the SuperNOFA, providing additional clarification on the utilization of HUD forms. On May 18, 2005 (70 FR 28553), HUD published a technical correction to the SuperNOFA extending due dates and providing instruction corrections for a number of programs published as part of the SuperNOFA.

On Tuesday, May 17, 2005, the Grants.gov website was the target of a “denial of service attack.” Over the next 35 hours that the attack was underway, Grants.gov experienced a significant degradation in performance. The processing capacity degraded by this attack, coupled with a high volume of application submissions, rendered the Grants.gov website almost inaccessible during certain times between Tuesday, May 17, 2005 and Thursday, May 19, 2005. Information regarding the attack can be obtained at http://www.cert.org/tech_tips/denial_of_service.html#1.

HUD understands that eligible NOFA applicants submitting electronic submissions between Tuesday, May 17, 2005 and Thursday, May 19, 2005 may have had difficulty submitting their applications. Therefore, in order to give all NOFA applicants affected by the technical problem sufficient time to submit completed applications, this Notice published in today's Federal Register provides a grace period and extended deadline date for those affected NOFA competitions. The grace periods and extended electronic submission deadline date for the affected NOFA competitions are as follows:

BILLING CODE 4210-01-P

BILLING CODE 4210-01-C

Applicability of SuperNOFA General Section Requirements to Affected Programs

The complete NOFA competition descriptions, application submission information, and application review information for each of these affected competitions were published in HUD's SuperNOFA published on March 21, 2005 (70 FR 13575) as clarified by HUD's Notice of Additional Guidance to Applicants published May 11, 2005 (70 FR 24835) and HUD's Notice of Technical Corrections published May 18, 2005 (70 FR 28553). With the exception of the specific grace period deadline date extensions listed in the Notice published in today's Federal Register, all requirements published in the SuperNOFA and its technical correction are applicable to applicants submitting applications within the grace periods listed herein. All other Program submission dates remain unchanged. HUD will be publishing separate Notices in the Federal Register for the Rural Housing and Economic Development Program, the Section 202 Supportive Housing for the Elderly Program, and the Assisted Living Conversion Program applicants.

Publication of Change to Instructions on Grants.gov

HUD will place this Notice and all Notices impacting programs placed on Grants.gov/Find and Apply in the download instructions to the electronic application file found on Grants.gov. This Notice does not change the application download portion of the application package.

Frequently Asked Questions

As a service to our customers to assist them in going through the electronic application process, HUD has published Frequently Asked Questions on our Web site at http://www.hud.gov/offices/adm/grants/fundavail.cfm. The Frequently Asked Questions can be found under Helpful Tools.

Submission Instructions

If you have already submitted an application, you do not need to resubmit another application. However, if you choose to make any changes to an application that has already been submitted, you must resubmit an entirely new application. HUD will review the most recent application and disregard any earlier submitted applications.

Waiver of Electronic Submission Requirement

This Notice is not a basis for request of a waiver of an electronic submission. Applicants seeking a waiver of an electronic submission requirement must have followed the requirements described in the NOFA competition descriptions, application submission information, and application review information, published in HUD's SuperNOFA on March 21, 2005. If you currently do not have a waiver, you must file your application electronically. If you obtained a waiver to the electronic submission requirements pursuant to the General Section requirements, you may resubmit a paper submission. Similarly, if you submitted an electronic application, you may resubmit it electronically during the grace periods listed herein. In either case, if you choose to make any changes to an application already submitted, you must resubmit a completely new application. For the purpose of rating and ranking, HUD will review the most recent application and disregard any earlier submitted application.

Dated: May 23, 2005.
Darlene F. Williams,
General Deputy Assistant Secretary for Administration.

[FR Doc. 05-10556 Filed 5-24-05; 8:45 am]

BILLING CODE 4210-01-P